CONSUMER PRODUCT SAFETY COMMISSION

[Docket No. CPSC-2012-0034]

Agency Information Collection Activities; Proposed Collection; Comment Request; Baby Bouncers and Walker-Jumpers

AGENCY: Consumer Product Safety Commission.

ACTION: Notice.

SUMMARY: As required by the Paperwork Reduction Act of 1995 (44 U.S.C. chapter 35), the Consumer Product Safety Commission (“CPSC” or “Commission”) requests comments on a proposed extension of approval of a collection of information relating to certain children's articles known as baby-bouncers and walker-jumpers, approved previously under OMB Control No. 3041-0019. The Commission will consider all comments received in response to this notice before requesting an extension of this collection of information from the Office of Management and Budget (“OMB”).

DATES: Submit written or electronic comments on the collection of information by December 28, 2015.

ADDRESSES: You may submit comments, identified by Docket No. CPSC-2012-0034, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC-2012-0034, into the “Search” box, and follow the prompts.

FOR FURTHER INFORMATION CONTACT: Robert H. Squibb, Consumer Product Safety Commission, 4330 East West Highway, Bethesda, MD 20814; (301) 504-7815, or by email to: rsquibb@cpsc.gov.

SUPPLEMENTARY INFORMATION: CPSC seeks to renew the following currently approved collection of information:

Title: Ban of Certain Articles Known as Baby-Bouncers or Walker-Jumpers.

OMB Number: 3041-0019.

Type of Review: Renewal of collection.

Frequency of Response: On occasion.

Affected Public: Manufacturers and importers of baby-bouncers or walker-jumpers.

Estimated Number of Respondents: 33 firms that supply baby-bouncers or walker-jumpers to the United States market have been identified; there are approximately 4 new models per firm annually.

Estimated Time per Response: 30 minutes/model associated with labeling requirements and 1 hour/model associated with recordkeeping requirements.

Total Estimated Annual Burden: 132 hours on recordkeeping (33 firms × 1 hour × 4 models) and 66 hours for labeling (33 firms × ½ hour × 4 models) for a total annual burden of 198 hours per year.

General Description of Collection: Under 16 CFR 1500.18(a)(6), certain articles known as “baby-bouncers” and “walker-jumpers” which are intended to support very young children while sitting, bouncing, jumping, and/or reclining, are banned if they are designed in such a way that exposed parts present hazards such as amputation, crushing, laceration, fracture, hematoma, bruise, or other injury to fingers, toes, or other parts of the anatomy of young children. An exemption from the ban is provided at 16 CFR 1500.86(a)(4) if the products are designed to guard against or prevent those same injuries. Among other requirements, the regulations require manufacturers, including importers, to meet the collection of information requirements for labeling and recordkeeping requirements.

Products that are the subject of this information collection are distinguishable from the infant bouncer seats that are the subject of the Commission's recent proposed safety standard on infant bouncer seats at 80 FR 63168 (Oct. 19, 2015). Infant bouncer seats described in the Commission's proposed standard are intended to hold young infants that cannot sit up unassisted in a reclined position (approximately 0 to 6 months of age). Comments related to the Paperwork Reduction Act on the proposed safety standard for infant bouncer seats should be directed to the Office of Information and Regulatory Affairs, the Office of Management and Budget, Attn: CPSC Desk Officer, FAX: 202-395-6974, or emailed to oira_submission@omb.eop.gov.

The products subject to this information collection are typically described as baby walkers, and allow the child to jump in place or assist with walking. Such products are intended for use with children that are beginning to develop leg strength to aid in learning to walk. Comments on the information collection requirements for these products should be submitted through the process outlined in the Addresses section above.

Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Dated: October 21, 2015.
Todd A. Stevenson,
Secretary, Consumer Product Safety Commission.

[FR Doc. 2015-27114 Filed 10-23-15; 8:45 am]

BILLING CODE 6355-01-P